DEPARTMENT OF COMMERCE

National Oceanic and Atmospheric Administration

RIN 0648-XE673

Endangered and Threatened Species; Take of Anadromous Fish

AGENCY: National Marine Fisheries Service (NMFS), National Oceanic and Atmospheric Administration (NOAA), Commerce.

ACTION: Notice of intent to prepare an Environmental Impact Statement; request for comments.

SUMMARY: Pursuant to the National Environmental Policy Act (NEPA), this notice announces that NMFS intends to obtain information necessary to prepare an Environmental Impact Statement (EIS) for 11 Hatchery and Genetic Management Plans (HGMPs) for salmon hatchery programs jointly submitted by the Washington Department of Fish and Wildlife (WDFW), the Lummi Nation, the Nooksack Indian Tribe, the Upper Skagit Indian Tribe, and the Swinomish Indian Tribal Community (referred to as the co-managers), for NMFS's evaluation and determination under Limit 6 of the Endangered Species Act (ESA) 4(d) Rule for threatened salmon and steelhead. The HGMPs specify the propagation of salmon in the Nooksack River Basin in Washington State.

NMFS provides this notice to advise other agencies and the public of its plans to analyze effects related to the action, and obtain suggestions and information that may be useful to the scope of issues and alternatives to include in the EIS.

DATES: Written or electronic scoping comments must be received at the appropriate address or email mailbox (see ADDRESSES) no later than 5 p.m. Pacific Time July 20, 2016.

ADDRESSES: Written comments may be sent by any of the following methods:

• Email to the following address: NooksackHatcheriesEIS.wcr@noaa.gov with the following identifier in the subject line: Nooksack Hatcheries Scoping.

• Mail or hand-deliver to NMFS Sustainable Fisheries Division, 510 Desmond Drive SE., Suite 103, Lacey, WA 98503.

• Fax to (360) 753-9517.

Comments received will be available for public inspection, by appointment, during normal business hours at the above address. All Personal Identifying Information (for example, name, address, etc.) voluntarily submitted by the commenter may be publicly accessible. Do not submit Confidential Business Information or otherwise sensitive or protected information.

FOR FURTHER INFORMATION CONTACT: Steve Leider, NMFS, by phone at (360) 753-4650, or email to steve.leider@noaa.gov.

SUPPLEMENTARY INFORMATION:

ESA-Listed Species Covered in This Notice

Steelhead (Oncorhynchus mykiss): Threatened, naturally and artificially produced in Puget Sound.

Chinook salmon (O. tshawytscha): Threatened, naturally and artificially produced in Puget Sound.

Chum salmon (O. keta): Threatened, naturally and artificially produced Hood Canal summer-run.

Bull trout (Salvelinus confluentus): Threatened Puget Sound/Washington Coast.

Background

The WDFW, the Lummi Nation, the Nooksack Indian Tribe, the Upper Skagit Indian Tribe, and the Swinomish Indian Tribal Community, have jointly submitted to NMFS HGMPs for 11 hatchery programs in the Nooksack River Basin in Washington State. The HGMPs were updated and submitted to NMFS from 2013 to 2015, pursuant to limit 6 of the 4(d) Rule for salmon and steelhead. The hatchery programs include releases of ESA-listed Chinook salmon, and non-listed coho, pink, and fall-run chum salmon into the Nooksack River Basin.

NEPA requires Federal agencies to conduct environmental analyses of their proposed major actions to determine if the actions may affect the human environment. NMFS's action of determining that the co-managers' HGMPs meet criteria under Limit 6 of the 4(d) Rule for salmon and steelhead promulgated under the ESA, is a major Federal action subject to environmental review under NEPA. Therefore, NMFS is seeking public input on the scope of the required NEPA analysis, including the range of reasonable alternatives, recommendations for relevant analysis methods, and information associated with impacts of the alternatives to the resources listed below or other relevant resources.

NMFS will perform an environmental review of the HGMPs and prepare an EIS that will identify potentially significant direct, indirect, and cumulative impacts on the following resources that may be affected by the Proposed Action or its alternatives:

• Listed and Non-listed Species and their habitats

• Water Quantity

• Socioeconomics

• Environmental Justice

• Cumulative Impacts

NMFS will rigorously explore and objectively evaluate a full range of reasonable alternatives in the EIS, including the Proposed Action and a no-action alternative. Other alternatives may include a decreased production alternative.

For all potentially significant impacts, the EIS will identify measures to avoid, minimize, and mitigate the impacts, where feasible.

Request for Comments

NMFS provides this notice to: (1) Advise other agencies and the public of its plans to analyze effects related to the action, and (2) obtain suggestions and information that may be useful to the scope of issues and the full range of alternatives to include in the EIS.

NMFS invites comment from all interested parties to ensure that the full range of issues related to the 11 salmon HGMPs is identified. Comments should be as specific as possible.

Written comments concerning the Proposed Action and the environmental review should be directed to NMFS as described above (see ADDRESSES). All comments and materials received, including names and addresses, will become part of the administrative record and may be released to the public.

Authority

The environmental review of the 11 salmon HGMPs in the Nooksack River Basin of Washington State will be conducted in accordance with requirements of the NEPA of 1969 as amended (42 U.S.C. 4321 et seq.), NEPA Regulations (40 CFR parts 1500-1508), other appropriate Federal laws and regulations, and policies and procedures of NMFS for compliance with those regulations. This notice is being furnished in accordance with 40 CFR 1501.7 to obtain suggestions and information from other agencies and the public on the scope of issues and alternatives to be addressed in the EIS.

Dated: June 15, 2016.
Angela Somma,
Chief, Endangered Species Division, Office of Protected Resources, National Marine Fisheries Service.

[FR Doc. 2016-14484 Filed 6-17-16; 8:45 am]

BILLING CODE 3510-22-P